DEPARTMENT OF HEALTH AND HUMAN SERVICES

Health Resources and Services Administration

Supporting Networks of HIV Care; National Training and Technical Assistance Cooperative Agreements Announcement of Sole Source Awards

AGENCY: Health Resources and Services Administration, HHS.

ACTION: Announcement of Sole Source Awards.

SUMMARY: The Health Resources and Services Administration (HRSA) announces the funding of two sole source cooperative agreements of fiscal year (FY) 2002 Health and Human Services Minority AIDS Initiative (MAI) funds. The two organizations funded will implement the Supporting Networks of HIV Care, National Training and Technical Assistance Cooperative Agreements. These cooperative agreements are an essential part of the HRSA HIV/AIDS Bureau's (HRSA/HAB) response to the severe and ongoing HIV/AIDS crisis within racial and ethnic minority communities.

Recipients of these two awards are Communities Advocating for Emergency Assistance and Relief (CAEAR) Coalition Foundation in the amount of $2,200,000 and the National Minority AIDS Council (NMAC) in the amount of $600,000. Funds are awarded for a 1-year project period starting September 30, 2002, and ending September 29, 2003.

In partnership with HRSA/HAB, these two cooperative agreements will provide training, education, technical assistance, and related informational resources to non-profit, minority community- and faith-based organizations (C/FBOs) serving people of color living with and affected by HIV/AIDS. Select minority C/FBOs will receive assistance in response to their specific needs. The assistance will be designed to improve staff capabilities and organizational capacity for the provision of high quality, comprehensive HIV primary health care, and support services. C/FBOs that receive Ryan White Comprehensive AIDS Response Emergency (CARE) Act funds directly from HRSA/HAB for service delivery are not eligible for assistance. The long-term goal of these cooperative agreements is to increase and improve HIV primary care infrastructure in communities of color. A related goal is to equip organizations serving communities of color to become new members of the CARE Act community.

Assistance will be provided in the following areas: staff and board development and management, needs assessment, strategic planning, linkages and referrals, clinical and support service delivery and management, financial management, resource development, management information systems, quality management, program evaluation, and the Ryan White Comprehensive AIDS Resources Emergency (CARE) Act. Services will be available through these cooperative agreements by early January 2003. The HRSA/HAB will have direct involvement in all planning, implementation, and evaluation related activities to ensure timely execution of work plans and quality in the delivery of services and the development of materials.

Background: The CAEAR Coalition Foundation and NMAC were found uniquely qualified to administer this cooperative agreement given their organizational characteristics, strengths and experience working directly with HRSA/HAB. Both organizations have significant experience developing successful activities and programs to support HIV/AIDS service providers nationally.

The CAEAR Coalition Foundation was formed by communities affected by the HIV/AIDS epidemic during the initial authorization of the Ryan White CARE Act. For a little over a decade, CAEAR Coalition Foundation has been a leading voice in HIV/AIDS service delivery and planning. The CAEAR Coalition Foundation represents over 250 governmental and CBOs, including Titles I and III grantees, and the communities they serve. Their membership is significant given its inclusion of organizations serving large metropolitan areas (500,000+ residents) most severely impacted by HIV/AIDS. It also includes CBOs in rural, underserved, and racial/ethnic minority communities facing existing and emerging HIV epidemics. The CAEAR Coalition Foundation's close relationship with relevant CARE Act grantees and other organizations nationally will allow for extensive outreach and identification of organizations in most need of this type of assistance. The CAEAR Coalition Foundation conducts a variety of research projects and educational activities to increase provider and patient knowledge about care, treatment, and support services and strategies to fight the HIV epidemic. The CAEAR Coalition Foundation works to stay abreast of the current needs of providers and address those needs. There is no other national AIDS organization with CAEAR Coalition Foundation membership and CARE Act expertise. CAEAR Coalition Foundation has experience managing HRSA funds and related initiatives.

Since 1987, NMAC has worked to develop leadership and capacity within communities of color to address HIV infection. NMAC is the only national organization founded specifically to support minority CBOs to foster new leadership and address the unique challenges HIV/AIDS presents for racial/ethnic minorities. Over 3,000 minority CBOs have joined. NMAC is the only national minority AIDS organization providing on-line training, technical assistance, and “chat room” opportunities for minority CBOs. NMAC's Web site receives approximately 36,000 hits per day. NMAC's LifeLine provides e-mail announcements to over 8,000 governmental and non-governmental organizations and individuals regarding the availability of grants for HIV service delivery, opportunities for training and TA, national conferences, and other important updates. NMAC has experience managing MAI funds and implementing related activities in the areas of HIV/AIDS treatment, fiscal management, board development, effective utilization of technology, and community planning.

FOR FURTHER INFORMATION CONTACT: Additional information may be obtained from Ms. Rene Sterling, HIV/AIDS Bureau, 5600 Fishers Lane, Room 7-47, Rockville, MD 20857; telephone (301) 443-7778, fax (301) 594-2835, e-mail RSterling@hrsa.gov.

Paperwork Reduction Act

If there is a data collection associated with this application OMB approval will be sought.

Dated: January 15, 2003.
Elizabeth M. Duke,
Administrator.

[FR Doc. 03-1569 Filed 1-23-03; 8:45 am]

BILLING CODE 4165-15-P